DEPARTMENT OF COMMERCE

Census Bureau

Proposed Information Collection; Comment Request; Current Population Survey (CPS) Migration Supplement

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before February 1, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Dennis E. Clark, U.S. Census Bureau, 7H0003J, Washington, DC 20233-8400 at (301) 763-5488 (or via the Internet at Dennis.E.Clark@census.gov).

SUPPLEMENTARY INFORMATION:

I. Abstract

The U.S. Census Bureau plans to request clearance for the collection of data concerning the Migration Supplement to be conducted in conjunction with the August 2008 CPS. The Census Bureau and the Bureau of Labor Statistics sponsor the basic questions on citizenship and year came to live in the United States, which have been collected on the CPS Basic questionnaire since 1994. The proposed supplemental survey provides information on contemporary migration patterns, such as multiple years of entry, time outside the United States, and emigration, as well as on naturalization and monetary remittances. This survey will be the only source of nationally representative data on multiple years of entry to and emigration from the United States, the demographic characteristics of those migrants and emigrants, and on international remittances. This supplement is a reinstatement with change of the Immigration and Emigration Supplement of 1991.

Collecting these data will assist the U.S. Census Bureau, other government agencies, and other researchers to improve the quality of international migration estimates and to determine changes in migration patterns that are related to the nation's population composition. Additionally, the information from this survey will be used to produce estimates of all components of net international migration, including emigration, a component for which no direct data currently exist. The survey can also be used to estimate naturalization rates and rates of monetary remittances. When combined with CPS-collected characteristics, such as citizenship, place of birth, parental nativity, income, and household relationships, the data can provide information on the social and economic adaptation of and the potential needs of the foreign-born population over time in the United States. Thus, this survey can be used to provide timely information on migration and migrants to policymakers.

II. Method of Collection

The migration information will be collected by both personal visit and telephone interviews in conjunction with the regular August 2008 CPS interviewing. All interviews are conducted using computer-assisted interviewing.

III. Data

OMB Control Number: 0607-0710.

Form Number: None.

Type of Review: Regular submission.

Affected Public: Individuals or households.

Estimated Number of Respondents: 135,000.

Estimated Time per Response: 1 minute.

Estimated Total Annual Burden Hours: 2,250.

Estimated Total Annual Cost: There is no cost to the respondents other than their time.

Respondent's Obligation: Voluntary.

Legal Authority: Title 13, U.S.C., Section 182, and Title 29, U.S.C., Sections 1-9.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 27, 2007.
Gwellnar Banks,
Management Analyst, Office of the Chief Information Officer.

[FR Doc. E7-23312 Filed 11-30-07; 8:45 am]

BILLING CODE 3510-07-P